RAILROAD RETIREMENT BOARD

Proposed Collection; Comment Request

SUMMARY: In accordance with the requirement of section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection:

Railroad Employers with No Compensated Employees;

Under 20 CFR 209.2 of the RRB's regulations, the RRB may require any employer or employee to furnish or submit any information, records, contracts, documents, reports or other materials within their possession or control, that, in the judgement of the RRB, may have any bearing upon (a) the employer status of any individual, person or company (b) the employee or pensions status of any individual, (c) the amount and credibility of service and compensation, and (d) any other matter arising which involves the administration of the Railroad Retirement Act. The RRB proposes to establish a monitoring program designed to periodically contact covered railroad employers who have either reported no compensated employees for the last 2 years, or who, after previously reporting no compensated employees are no longer reporting. The RRB will contact the targeted railroad employers and obtain information as to whether they had compensated employees in the past reporting year, if they expect to have compensated employees in the current reporting year, and provide them the opportunity to request that their status as an employer under the Railroad Retirement Act and Railroad Unemployment Insurance Act be reviewed. For program integrity purposes, targeted employers who operate a freight or passenger service will be asked to provide additional information as to whether they conducted any freight or passenger service during the previous reporting year, if they expect to conduct any during the current reporting year, or if they have ceased all operations. If they have conducted freight or passenger service, they will be asked how the service and compensation was accounted for. If they have ceased operations, they will be asked to provide the Interstate Commerce Commission/Surface Transportation Board references to any abandonment proceedings.

The RRB proposes the establishment of Form T-7, Request to Railroad Employers to obtain the necessary information from the targeted railroad employers. Form T-7 will be accompanied by an Employer Program Letter which explains the purpose of the initiative and provides instructions. The completion time for Form T-7 is estimated at 10 minutes. Completion is mandatory.The RRB estimates that approximately 175 T-7's will be completed annually.

Additional Information or Comments: To request more information or to obtain a copy of the information collection justification, forms, and/or supporting material, please call the RRB Clearance Officer at (312) 751-3363. Comments regarding the information collection should be addressed to Ronald J. Hodapp, Railroad Retirement Board, 844 N. Rush Street, Chicago, Illinois 60611-2092. Written comments should be received within 60 days of this notice.

Chuck Mierzwa,
Clearance Officer.

[FR Doc. 01-12452 Filed 5-16-01; 8:45 am]

BILLING CODE 7905-01-M